DEPARTMENT OF AGRICULTURE

Forest Service

Public Meetings on the Development of the Forest Service Land Management Planning Rule

AGENCY: Forest Service, USDA.

ACTION: Notice of meetings.

SUMMARY: The USDA Forest Service is committed to developing a new Forest Service Land Management Planning Rule (planning rule) through a transparent and participatory process. To facilitate public participation, dialogue, and active collaboration, the Forest Service will host a national science forum, three national roundtables, and nine regional roundtables. Summaries of each session will be produced and posted on the planning rule Web site as part of the public record.

While public participation in the forum and roundtables will be a valuable source of information for the rule-writing process, this participation is not a substitute for the submission of written comments through the formal National Environmental Policy Act and Administrative Procedure Act (NEPA/APA) processes. Any comments you wish to be considered as part of the formal NEPA/APA process must be made by you in writing during the appropriate comment period.

DATES:

• The national science forum will take place March 29 and 30, 2010, in Washington, DC.

• The national roundtables are scheduled for April 1 and 2, April 20 and 21, and May 11 and 12, 2010, in Washington, DC.

• The nine regional roundtables will take place in the following locations:

○ Pacific Northwest Region (Region 6), Portland, OR on April 6, 2010;

○ Pacific Southwest Region (Region 5),Sacramento, CA on April 6, 2010;

○ Intermountain Region (Region 4), Salt Lake City, UT on April 8, 2010;

○ Rocky Mountain Region, (Region 2), Lakewood, CO on April 12, 2010;

○ Northern Region (Region 1), Missoula, MT on April 13, 2010;

○ Alaska Region (Region 10), Juneau, AK on April 13, 2010;

○ Southern Region (Region 8), Atlanta, GA during the week of April 12, 2010 (exact date to be determined);

○ Eastern Region (Region 9), Chicago, IL during the week of April 28 (exact date to be determined); and

○ Southwestern Region (Region 3), Albuquerque, NM on April 28, 2010.

○ Region 2 will host additional meetings on April 14 in Cheyenne, WY and on April 21 meeting in Rapid City, SD.

• Several Forest Service regions will videoconference their regional meeting to Forest Service offices in other locations:

○ Region 5 will videoconference to Forest Service offices in San Bernandino, CA and Redding, CA with the April 6 Sacramento, CA meeting;

○ Region 1 will videoconference with Forest Service offices in Couer d'Alene, ID and Billings, MT with the April 13 meeting in Missoula, MT;

○ Additional videoconference locations are also possible; please check the planning rule Web site, at http://www.fs.usda.gov/planningrule, for the most up-to-date information.

• A more detailed schedule of these planning rule public meetings, including information on meeting times and specific locations, will be available on the planning rule Web site at http://www.fs.usda.gov/planningrule. The exact dates for the meetings in Atlanta, GA and Chicago, IL will be posted to the planning rule Web site as soon as the information is available.

ADDRESSES: The addresses for the science forum, national roundtables, and regional roundtables will be available on the planning rule Web site at http://www.fs.usda.gov/planningrule.

FOR FURTHER INFORMATION CONTACT: The Ecosystem Management Coordination (EMC) staff at 202-205-0895. Additional information concerning these meetings, including regional contact information, will be available on the planning rule Web site at http://www.fs.usda.gov/planningrule.

Individuals who use telecommunication devices for the deaf (TDD) may call the Federal Information Relay Service (FIRS) at 1-800-877-8339 between 8:00 a.m. and 8:00 p.m., Eastern Standard Time, Monday through Friday.

SUPPLEMENTARY INFORMATION: On December 18, 2009, the Forest Service formally announced the intent to prepare a new planning rule with the publication of a notice of intent (NOI) to prepare an environmental impact statement in the Federal Register (74 FR 67165) (http://fs.usda.gov/Internet/FSE_DOCUMENTS/stelprdb5110264.pdf). In line with President Obama's call for open government that is transparent, participatory and collaborative, the Forest Service is committed to actively engaging the public in the development of a new planning rule. The national science forum, three national roundtables, and nine regional roundtables are key elements in the agency's plan to provide multiple opportunities for public dialogue and collaboration to develop the proposed planning rule and DEIS. Webcasts, the posting of summaries from each session, and the planning rule blog, all hosted on the Forest Service planning rule Web site, will provide further support for a dynamic, participatory, transparent and collaborative process.

Science forum: The national science forum will provide an opportunity for scientists and other participants to share perspectives on how science can inform and form a strong basis for a new planning rule. The science forum will be open to the public and will be available over webcast. Notes from the forum will be posted to the planning rule Web site for further feedback, and will be used to frame the roundtable discussions. Further information on the design and agenda for the forum will be posted to the planning rule Web site at http://www.fs.usda.gov/planningrule.

Roundtables: The U.S. Institute for Environmental Conflict Resolution, an independent federal program, is assisting the Forest Service in organizing the national and regional roundtables. All roundtables will be open to the public and will provide opportunities for dialogue about the nature and content of a new planning rule. Notes from each roundtable will be posted on the planning rule Web site for further feedback opportunities. The public will also be able to view parts of and provide feedback on the roundtables through remote access; details on remote access opportunties will be posted the planning rule Web site.

The Planning Rule Blog (http://blogs.usda.gov/usdablogs/planningrule) will provide opportunities for people who are unable to attend the roundtables to discuss the subjects covered and to provide feedback on the notes from the roundtables as they are posted to the planning rule Web site.

Summaries of the presentations and discussions that occur during each session will be produced and become part of the public record for the rule. The teams writing the proposed rule and the draft environmental impact statement (DEIS) will use these summaries, along with the report of individual comments expressed during the 60-day formal comment period on the Notice of Intent, in the development of the proposed rule and DEIS alternatives.

While public participation in the forum and roundtables will be a valuable source of information for the rulewriting process, we emphasize that this participation is not a substitute for the submission of written comments through the formal National Environmental Policy Act and Administrative Procedure Act (NEPA/APA) processes. Any comments you wish to be considered as part of the formal NEPA/APA process must be made by you in writing during the appropriate comment period.

Further information on the meetings, the planning rule development process, and general background information on the planning rule may be found at http://www.fs.usda.gov/planningrule.

Dated: February 22, 2010.
Faye L. Krueger,
Acting Associate Deputy Chief, NFS.

[FR Doc. 2010-3904 Filed 2-24-10; 8:45 am]

BILLING CODE 3410-11-P